DEPARTMENT OF THE TREASURY

Submission for OMB Review; Comment Request

May 22, 2012.

The Department of the Treasury will submit the following information collection request to the Office of Management and Budget (OMB) for review and clearance in accordance with the Paperwork Reduction Act of 1995, Public Law 104-13, on or after the date of publication of this notice.

DATES: Comments should be received on or before June 25, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or at PRA@treasury.gov.

FOR FURTHER INFORMATION CONTACT: Copies of the submission(s) may be obtained by calling (202) 927-5331, email at PRA@treasury.gov, or the entire information collection request maybe found at www.reginfo.gov.

Bureau of the Public Debt (BPD)

OMB Number: 1535-0012.

Type of Review: Extension without change of a currently approved collection.

Title: Request by Fiduciary for Reissue of United States Savings Bonds.

Form: PD F 1455.

Abstract: Used by fiduciary to request distribution of U.S. Savings Bonds to the person(s) entitled.

Affected Public: Individuals or Households.

Estimated Total Burden Hours: 8,850.

OMB Number: 1535-0013.

Type of Review: Revision of a currently approved collection.

Title: Claim for Lost, Stolen or Destroyed U.S. Savings Bonds and Supplemental Statement For U.S. Securities.

Form: PD F 1048; PD F 2243.

Abstract: Used by owner or others having knowledge to request substitutes securities or payment of lost, stolen or destroyed securities.

Affected Public: Individuals or Households.

Estimated Total Burden Hours: 24,000.

OMB Number: 1535-0136.

Type of Review: Revision of a currently approved collection.

Title: Application for Refund of Purchase Price of United States Savings Bonds for Organizations.

Form: PD F 5410.

Abstract: Used by an organization to request refund of purchase price of United States Savings Bonds.

Affected Public: Private Sector: Businesses or other for-profits.

Estimated Total Burden Hours: 50.

Dawn D. Wolfgang,
Treasury PRA Clearance Officer.

[FR Doc. 2012-12776 Filed 5-24-12; 8:45 am]

BILLING CODE 4810-39-P